DEPARTMENT OF JUSTICE

Notice of Lodging of Proposed Consent Decree Under the Clean Water Act

Under 28 CFR 50.7, notice is hereby given that on April 7, 2005, a proposed Consent Decree in United States v. Air Products and Chemicals, et al., Civil Action JH-88-365 (D. Md.), was lodged with the United States District Court for the District of Maryland.

This Consent Decree obligates the 40 settling defendants at the Maryland Sand and Gravel Superfund Site (the “Site”) to implement the Record of Decision for the third operable unit at the Site. This is the third consent decree in this action for remedial action at the Site. EPA estimates that the work to be performed under the decree will be approximately $23 million. In the decree, the United States covenants not to sue the settling defendants under Section 106 and 107 of the Comprehensive Environmental Response, Compensation, and Liability Act (“CERCLA”), 42 U.S.C. 9606 and 9607, for the third operable unit, subject to certain standard reopeners for new information or unknown conditions.

The Department of Justice will receive for a period of thirty (30) days from the date of this publication comments relating to the proposed Consent Decree. Comments should be addressed to the Assistant Attorney General, Environment and Natural Resources Division, P.O. Box 7611, U.S. Department of Justice, Washington, DC 20044-7611, U.S. Department of Justice, Washington, DC 20044-7611, and should refer to United States v. Air Product and Chemicals, Inc., et al., Civil Action No. JH-88-365 (D. Md.), DOJ# 90-11-225A.

The Consent Decree may be examined at the Office of the United States Attorney, District of Maryland, 36 South Charles Street, Baltimore, MD, 21201, and at U.S. EPA Region III, 1650 Arch Street, Philadelphia, PA 19103-2029. During the public comment period, the Consent Decree may also be examined on the following Department of Justice Web site, http://www.usdoj.gov/enrd/open.html. A copy of the Consent Decree may also be obtained by mail from the Consent Decree Library, P.O. Box 7611, U.S. Department of Justice, Washington, DC. 20044-7611 or by faxing or e-mailing a request to Tonia Fleetwood (tonia.fleetwood@usdoj.gov), fax no. (202) 514-0097, phone confirmation number (202) 514-1547. In requesting a copy from the Consent Decree Library, please enclose a check in the amount of $198.00 (25 cents per page) payable to the U.S. Treasury.

Robert Brook,
Assistant Chief, Environmental Enforcement Section, Environment and Natural Resources Division.

[FR Doc. 05-7931 Filed 4-19-05; 8:45 am]

BILLING CODE 4410-15-M